FEDERAL DEPOSIT INSURANCE CORPORTATION

12 CFR Parts 338 and 343

RIN 3064-AF84

Fair Housing Rule, Consumer Protection in Sales of Insurance Rule; Correction

AGENCY: Federal Deposit Insurance Corporation.

ACTION: Correcting amendments.

SUMMARY: The Federal Deposit Insurance Corporation (FDIC) published a document in the Federal Register of August 8, 2022, making technical corrections to two regulations to reflect a reorganization and change in the name of its former Consumer Response Center to the National Center for Consumer and Depositor Assistance. The document incorrectly listed the name of the National Center for Consumer and Depositor Assistance. This document corrects the regulations.

DATES: Effective August 12, 2022.

FOR FURTHER INFORMATION CONTACT: Alys V. Brown, Attorney, Legal Division, 202-898-3565, alybrown@fdic.gov; Thaddeus J. King, Policy Analyst, Division of Depositor and Consumer Protection, 202-898-3541, thking@fdic.gov.

SUPPLEMENTARY INFORMATION: This document augments the corrections to parts 338 (Fair Housing) and 343 (Consumer Protection in Sales of Insurance) that the FDIC published in the Federal Register on August 8, 2022 (87 FR 49079), and corrects the name of the National Center for Consumer and Depositor Assistance.

List of Subjects

12 CFR Part 338

Aged, Banks, banking, Civil rights, Credit, Fair housing, Individuals with disabilities, Marital status discrimination, Mortgages, Religious discrimination, Reporting and recordkeeping requirements, Savings associations, Sex discrimination, Signs and symbols.

12 CFR Part 343

Banks, banking, Consumer protection, Insurance, Savings associations.

Authority and Issuance

For the reasons stated in the preamble, the FDIC corrects 12 CFR parts 338 and 343 by making the following correcting amendments:

PART 338—FAIR HOUSING

1. The authority citation for part 338 continues to read as follows:

Authority: 12 U.S.C. 1817, 1818, 1819, 1820(b), 2801 et seq.; 15 U.S.C. 1691 et seq.; 42 U.S.C. 3605, 3608; 12 CFR parts 1002, 1003; 24 CFR part 110.

§ 338.4 [Amended]

2. Amend § 338.4 by removing the phrase “National Center for Consumer and Deposit Assistance” wherever it appears in paragraph (b) and adding “National Center for Consumer and Depositor Assistance” in its place.

PART 343—CONSUMER PROTECTION IN SALES OF INSURANCE

3. The authority citation for part 343 continues to read as follows:

Authority: 12 U.S.C. 1819 (Seventh and Tenth); 12 U.S.C. 1831x.

Appendix A to Part 343 [Amended]

4. Amend appendix A to part 343 by removing the phrase “National Center for Consumer and Deposit Assistance” wherever it appears and adding “National Center for Consumer and Depositor Assistance” in its place.

Federal Deposit Insurance Corporation.
Dated at Washington, DC, on August 9, 2022.
James P. Sheesley,
Assistant Executive Secretary.

[FR Doc. 2022-17370 Filed 8-11-22; 8:45 am]

BILLING CODE 6714-01-P